NATIONAL FOUNDATION ON THE ARTS AND THE HUMANITIES

Federal Council on the Arts and the Humanities

Arts and Artifacts Indemnity Panel Advisory Committee

AGENCY: Federal Council on the Arts and the Humanities; National Endowment for the Arts.

ACTION: Notice of meeting.

SUMMARY: Pursuant to the Federal Advisory Committee Act, notice is hereby given that the Federal Council on the Arts and the Humanities will hold a meeting of the Arts and Artifacts International Indemnity Panel.

DATES: The meeting will be held on Monday, November 24, 2025, from 11:00 a.m. until adjourned.

ADDRESSES: The meeting will be held by videoconference originating at the National Endowment for the Arts, Washington, DC 20506.

FOR FURTHER INFORMATION CONTACT: Daniel Beattie, Committee Management Officer, 400 7th Street SW, Washington, DC 20506, T: 202-682-5688, E: beattied@arts.gov.

SUPPLEMENTARY INFORMATION: The purpose of the meeting is for panel review, discussion, evaluation, and recommendation on applications for Certificates of Indemnity submitted to the Federal Council on the Arts and the Humanities, for exhibitions beginning on or after January 1, 2026. The meeting will consider proprietary financial and commercial data provided in confidence by indemnity applicants, material that is likely to disclose trade secrets or other privileged or confidential information, and values of objects to be indemnified and the methods of transportation and security measures confidential. In accordance with the determination of the Chair of March 11, 2022, these sessions will be closed to the public pursuant to 5 U.S.C. 10.

Dated: October 31, 2025.
Daniel Beattie,
Director, Guidelines & Panel Operations, National Endowment for the Arts.

[FR Doc. 2025-19779 Filed 11-3-25; 8:45 am]

BILLING CODE 7536-01-P